ENVIRONMENTAL PROTECTION AGENCY

[FRL-8161-3]

Science Advisory Board Staff Office; Clean Air Scientific Advisory Committee (CASAC); Notification of a Public Advisory Committee Meeting (Teleconference) of the CASAC Ozone Review Panel

AGENCY: Environmental Protection Agency (EPA).

ACTION: Notice.

SUMMARY: The Environmental Protection Agency (EPA or Agency) Science Advisory Board (SAB) Staff Office announces a public teleconference of the Clean Air Scientific Advisory Committee (CASAC) Ozone Review Panel (Ozone Panel) to provide additional advice to the Agency concerning Chapter 8 (Integrative Synthesis) of the Final Air Quality Criteria for Ozone and Related Photochemical Oxidants (EPA/600/R-05/004aF-cF, February 2006).

DATES: The teleconference will be held on May 12, 2006, from 1 to 4 p.m. (Eastern Time).

FOR FURTHER INFORMATION CONTACT: Any member of the public who wishes to obtain the teleconference call-in number and access code; would like to submit written or brief (less than five minutes) oral comments; or wants further information concerning this teleconference, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at URL: http://www.epa.gov/sab.

SUPPLEMENTARY INFORMATION: Background: The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC Ozone Review Panel, which consists of the members of the chartered CASAC supplemented by subject-matter-experts, complies with the provisions of FACA and all appropriate SAB Staff Office procedural policies.

Under section 108 of the CAA, the Agency is required to establish National Ambient Air Quality Standards (NAAQS) for each of six pollutants for which EPA has issued criteria, including ambient ozone (O3). Section 109(d) of the Act subsequently requires periodic review and, if appropriate, revision of existing air quality criteria and NAAQS to reflect advances in scientific knowledge on the effects of the pollutant on public health and welfare. The Ozone Panel met in a public meeting in Durham, North Carolina on December 6-7, 2005, to conduct a peer review on EPA's 2nd draft Air Quality Criteria for Ozone and Related Photochemical Oxidants (August 2005). In a February 10, 2006, letter to the Administrator (EPA-CASAC-06-003), the CASAC indicated that it may need to provide additional advice related to chapter 8 of the AQCD which integrates human health effects and exposure. The CASAC's review of the 2nd draft is available on the SAB Web site at: http://www.epa.gov/sab/pdf/oasac_ozone_casac-06-003.pdf.

On March 21, 2006, EPA's National Center for Environmental Assessment, Research Triangle Park (NCEA&ndash;RTP), released the Final O3 AQCD. Concomitantly, EPA's Office of Air Quality Planning and Standards (OAQPS) is completing work on a 2nd draft of A Review of the National Ambient Air Quality Standards for Ozone: Policy Assessment of Scientific and Technical Information. The latter document evaluates the policy implications of the scientific information in the Final O3 AQCD, and the results of the quantitative risk/exposure analysis. CASAC will hold a conference call to provide additional advice to the Agency as it works to complete the 2nd Draft NAAQS for O3.

Availability of Meeting Materials: The Final O3 AQCD can be accessed via the Agency's NCEA Web site at: http://cfpub.epa.gov/ncea/cfm/recordisplay.cfm?deid=149923. Any questions concerning the Final O3 AQCD should be directed to Dr. Mary Ross, NCEA-RTP, at phone: (919) 541-5170, or e-mail: ross.mary@epa.gov. In addition, a copy of the draft agenda for this teleconference meeting will be posted on the SAB Web site at: http://www.epa.gov/sab (under the “Agendas” subheading) in advance of this Ozone Panel meeting. Other meeting materials, including the discussion questions for the Ozone Panel, will be posted on the SAB Web site at: http://www.epa.gov/sab/panels/casacorpanel.html prior to this teleconference.

Procedures for Providing Public Input: Interested members of the public may submit relevant written or oral information for the CASAC Ozone Review Panel to consider during the advisory process. Oral Statements: In general, individuals or groups requesting an oral presentation at a teleconference meeting will be limited to five minutes per speaker, with no more than a total of 30 minutes for all speakers. Interested parties should contact Mr. Butterfield, DFO (preferably via e-mail) at the contact information noted above, no later than May 5, 2006, to be placed on the public speaker list for this meeting. Written Statements: Written statements should be received in the SAB Staff Office by May 5, 2006, so that the information may be made available to the Ozone Panel for their consideration prior to this meeting. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: April 18, 2006.
Anthony Maciorowski,
Associate Director for Science, EPA Science Advisory Board Staff Office.

[FR Doc. E6-6103 Filed 4-21-06; 8:45 am]

BILLING CODE 6560-50-P